FEDERAL COMMUNICATIONS COMMISSION

[FR ID 33227]

Privacy Act of 1974; System of Records

AGENCY: Federal Communications Commission.

ACTION: Notice of a new system of records.

SUMMARY: The Federal Communications Commission (“FCC” or “Commission”) is establishing OMD-33, Ensuring Workplace Health and Safety in Response to a Public Health Emergency, a system of records under the Privacy Act of 1974. This system of records maintains information collected in response to a public health emergency, such as a pandemic or epidemic, from FCC staff (including political appointees, employees, detailees, contractors, consultants, interns, and volunteers) and visitors to FCC facilities that is necessary to ensure a safe and healthy work environment.

DATES: In accordance with 5 U.S.C. 552(e)(4) and (11), this notice will go into effect without further notice on June 22, 2021 unless otherwise revised pursuant to comments received. New routine uses will go into effect on July 22, 2021. Comments must be received on or before July 22, 2021.

ADDRESSES: You may submit comments identified as pertaining to “Ensuring Workplace Health and Safety in Response to a Public Health Emergency” to Margaret Drake at Privacy@fcc.gov or Federal Communications Commission (FCC), 45 L Street NE, Washington, DC 20554.

FOR FURTHER INFORMATION CONTACT: Margaret Drake at 202-418-1707 or privacy@fcc.gov, Office of the General Counsel, Federal Communications Commission, 45 L Street NE, Washington, DC 20554.

SUPPLEMENTARY INFORMATION:

I. OMD-33, Ensuring Workplace Health and Safety in Response to a Public Health Emergency

The FCC is establishing OMD-33, Ensuring Workplace Health and Safety in Response to a Public Health Emergency, a system of records under the Privacy Act of 1974. The FCC is committed to providing all FCC staff with a safe and healthy work environment and to that end it may develop and institute additional safety measures in response to a public health emergency. These measures may include instituting activities such as requiring FCC staff and visitors to provide information before being allowed access to an FCC facility, medical screening, and contact tracing. Contact tracing conducted by FCC staff may involve collecting information about FCC staff and visitors who are exhibiting symptoms or who have tested positive for an infectious disease in order to identify and notify other FCC staff and visitors with whom they may have come into contact and who may have been exposed. Moreover, the FCC will use contact tracing data to submit required reports to local public health officials, in accordance with local public health mandates.

Information will be collected and maintained in accordance with the Rehabilitation Act of 1973 and regulations and guidance published by the U.S. Occupational Safety and Health Administration, the U.S. Equal Employment Opportunity Commission, and the U.S. Centers for Disease Control and Prevention.

II. The Privacy Act

Under the Privacy Act of 1974, 5 U.S.C. 552a, a “system of records” is defined as a group of any records under the control of a Federal government agency from which information about individuals is retrieved by name or by some identifying number, symbol, or other identifying particular assigned to the individual. The Privacy Act establishes the means by which government agencies must collect, maintain, and use information about an individual in a government system of records.

Each government agency is required to publish a notice in the Federal Register in which the agency identifies and describes each system of records it maintains, the reasons why the agency uses the information therein, the routine uses for which the agency will disclose such information outside the agency, and how individuals may exercise their rights under the Privacy Act.

In accordance with 5 U.S.C. 552a(r), the FCC has provided a report of this new system of records to the Office of Management and Budget and to Congress.

SYSTEM NAME AND NUMBER:

OMD-33, Ensuring Workplace Health and Safety in Response to a Public Health Emergency.

SECURITY CLASSIFICATION:

Unclassified.

SYSTEM LOCATION:

This system is maintained by the Office of the Managing Director in the Commission's Headquarters at 45 L Street NE, Washington, DC 20554.

SYSTEM MANAGER(S):

The system manager is the Managing Director located in the Commission's Headquarters at 45 L Street NE, Washington, DC 20554.

AUTHORITY FOR MAINTENANCE OF THE SYSTEM:

The authority to collect this information derives from General Duty Clause, Section 5(a)(1) of the Occupational Safety and Health (OSH) Act of 1970 (29 U.S.C. 654), Executive Order 12196, Occupational safety and health programs for Federal employees (Feb. 26, 1980), Executive Order 13991, Protecting the Federal Workforce and Requiring Mask-Wearing, OMB Memorandum M 21-15, COVID-19 Safe Federal Workplace: Agency Model Safety Principles (Jan. 24, 2021), and the National Defense Authorization Act For Fiscal Year 2017 (5 U.S.C. 6329c(b)). Information will be collected and maintained in accordance with the Rehabilitation Act of 1973 (29 U.S.C. 791 et seq.).

PURPOSE(S) OF THE SYSTEM:

The information in the system is collected to assist the FCC with maintaining a safe and healthy workplace and to protect FCC staff and visitors working on-site from risks associated with a public health emergency (as defined by the U.S. Department of Health and Human Services and declared by its Secretary), such as a pandemic or epidemic. To that end, the FCC may develop and institute additional safety measures in response to a public health emergency. These measures may include instituting activities such as requiring FCC staff and visitors to provide information before being allowed access to an FCC facility, medical screening, and contact tracing. Contact tracing conducted by FCC staff may involve collecting information about FCC staff and visitors who are exhibiting symptoms or who have tested positive for an infectious disease in order to identify and notify other FCC staff and visitors with whom they may have come into contact and who may have been exposed within an FCC facility. Moreover, the FCC will use contact tracing data to submit required reports to local public health officials, in accordance with local public health mandates.

CATEGORIES OF INDIVIDUALS COVERED BY THE SYSTEM:

Individuals covered by this system include FCC staff (e.g., political appointees, employees, detailees, contractors, consultants, interns, and volunteers) and visitors to a FCC facility during a public health emergency, such as a pandemic or epidemic.

CATEGORIES OF RECORDS IN THE SYSTEM:

This system maintains information collected about FCC staff and visitors accessing or requesting access to FCC facilities during a public health emergency, including a pandemic or epidemic. It maintains biographical information collected about FCC staff and visitors such as their name, contact information, whether they are in a high-risk category or provide dependent care for individuals in a high-risk category, and recent travel. It maintains health information collected about FCC staff and visitors to a FCC facility, that may include temperature checks, expected or confirmed test results, dates, symptoms, potential or actual exposure to a pathogen, immunizations and vaccination information, or other medical history related to the treatment of a pathogen or communicable disease that is identified as part of a public health emergency. It maintains information collected about FCC staff and visitors to FCC facilities necessary to conduct contact tracing that may include the dates and which facility they visited, the locations that they visited within the facility (e.g., office and cubicle number), the duration of time spent in the facility, whether they may have potentially come into contact with a contagious person while visiting the facility, travel dates and locations, and a preferred contact number.

RECORD SOURCE CATEGORIES:

The information in this system is collected in part directly from the individual or from FCC management officials requesting access to an FCC facility on a person's behalf. Information is also collected from security systems monitoring access to FCC facilities, such as video surveillance and turnstiles, human resources systems, emergency notification systems, and federal, state, and local agencies assisting with the response to a public health emergency. Information may also be collected from property management companies responsible for managing office buildings, including parking garages, that house FCC facilities.

ROUTINE USES OF RECORDS MAINTAINED IN THE SYSTEM, INCLUDING CATEGORIES OF USERS AND THE PURPOSES OF SUCH USES:

In addition to those disclosures generally permitted under 5 U.S.C. 552a(b) of the Privacy Act, all or a portion of the records or information contained in this system may be disclosed to authorized entities, as is determined to be relevant and necessary, outside the FCC as a routine use pursuant to 5 U.S.C. 552a(b)(3) as follows.

(a) To Federal, State, or local public health agencies to the extent necessary to comply with laws and regulations governing reporting of infectious disease;

(b) To the FCC staff member's emergency contact for purposes of locating a staff member during a public health emergency or to communicate that the FCC staff member may have potentially been exposed to an infectious disease as the result of a pandemic or epidemic while visiting a FCC facility;

(c) To a court or adjudicative body in a proceeding when: (a) The Commission or any component thereof; or (b) any employee of the Commission in his or her official capacity; or (c) any employee of the Commission in his or her individual capacity where the Commission has agreed to represent the employee; or (d) the United States Government is a party to litigation or has an interest in such litigation;

(d) To the appropriate Federal, State, or local authorities where there is an indication of a violation or potential violation of a statute, regulation, rule, or order either for purposes of obtaining additional information relevant to a FCC decision or for referring the record for investigation, enforcement, or prosecution by another agency;

(e) To a Congressional office when in response to an inquiry by an individual made to the Congressional office for the individual's own records;

(f) To provide information to the Department of Justice (DOJ) to obtain that department's advice regarding disclosure obligations under the Freedom of Information Act; or to the Office of Management and Budget (OMB) to obtain that office's advice regarding obligations under the Privacy Act.

(g) To appropriate agencies, entities, and persons when (1) the Commission suspects or has confirmed that there has been a breach of the system of records, (2) the Commission has determined that as a result of the suspected or confirmed breach there is a risk of harm to individuals, the Commission (including its information systems, programs, and operations), the Federal Government, or national security; and (3) the disclosure made to such agencies, entities, and persons is reasonably necessary to assist in connection with the Commission's efforts to respond to the suspected or confirmed breach or to prevent, minimize, or remedy such harm; or

(h) To another Federal agency or Federal entity, when the Commission determines that information from this system of records is reasonably necessary to assist the recipient agency or entity in (1) responding to a suspected or confirmed breach or (2) preventing, minimizing, or remedying the risk of harm to Individuals, the recipient agency or entity (including its information systems, programs, and operations), the Federal Government, or national security, resulting from a suspected or confirmed breach.

(i) To disclose information to third parties, including contractors, performing or working on a contract in connection with providing services for the Federal Government, who may require access to this system of records.

POLICIES AND PRACTICES FOR STORAGE OF RECORDS:

Records in this system of records are stored electronically or on paper in secure facilities. Electronic records are stored on the Commission's secure network.

POLICIES AND PRACTICES FOR RETRIEVAL OF RECORDS:

Information covered by this system of records notice may be retrieved by the name of the individual.

POLICIES AND PRACTICES FOR RETENTION AND DISPOSAL OF RECORDS:

FCC will work with the National Archives and Records Administration (NARA) to draft and secure approval of a records disposition schedule to cover the records described in this SORN. Until this records disposition schedule is approved by NARA, FCC will maintain, and not destroy, these records.

ADMINISTRATIVE, TECHNICAL, AND PHYSICAL SAFEGUARDS:

Records are protected from unauthorized access and improper use through administrative, technical, and physical security measures. Technical security safeguards within FCC include restrictions on computer access to authorized individuals who have a legitimate need to know the information; required use of strong passwords that are frequently changed; multi-factor authentication for remote access and access to many FCC network components; use of encryption for certain data types and transfers; firewalls and intrusion detection applications; and regular review of security procedures and best practices to enhance security. Physical safeguards include restrictions on building access to authorized individuals, 24-hour security guard service, and maintenance of records in lockable offices and filing cabinets.

RECORD ACCESS PROCEDURES:

Individuals seeking to determine whether this system of records contains information about themselves or seeking access to records about themselves in this system of records should follow the Notification Procedure below.

CONTESTING RECORD PROCEDURES:

Individuals contesting the content of records about themselves contained in this system of records should follow the Notification Procedure below.

NOTIFICATION PROCEDURES:

Individuals seeking notification of any records about themselves contained in this system of records should address inquiries to Margaret Drake at privacy@fcc.gov or Federal Communications Commission, 45 L Street NE, Washington, DC 20554. Individuals requesting access must also comply with the FCC's Privacy Act regulations regarding verification of identity and access to records (47 CFR part 0, subpart E).

EXEMPTIONS PROMULGATED FOR THE SYSTEM:

None.

HISTORY:

None.

Issued in Washington, DC, on June 22, 2021, by the Federal Communications Commission.
Marlene Dortch,
Secretary.

[FR Doc. 2021-13087 Filed 6-21-21; 8:45 am]

BILLING CODE P